DEPARTMENT OF HEALTH AND HUMAN SERVICES

Centers for Disease Control and Prevention

[60Day-18-18AJJ; Docket No. CDC-2018-0056]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Knowledge, Attitudes, and Practices of US Large Animal Veterinarians Concerning Common Veterinary Infection Control Measures When Working with Animal Obstetric Cases. The goals of this survey are to better describe veterinarians' current knowledge of zoonotic infectious diseases that cause abortion in large animals, determine common veterinary infection control practices when working up obstetric cases, and identify common barriers to personal protective equipment use.

DATES: CDC must receive written comments on or before September 18, 2018.

ADDRESSES: You may submit comments, identified by Docket No. CDC-2018-0056 by any of the following methods:

• Federal eRulemaking Portal: Regulations.gov. Follow the instructions for submitting comments.

• Mail: Jeffrey Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Knowledge, Attitudes, and Practices of U.S. Large Animal Veterinarians Concerning Common Veterinary Infection Control Measures When Working with Animal Obstetric Cases—New ICR—National Center for Emerging and Zoonotic Infectious Diseases, Centers for Disease Control and Prevention (CDC).

Background and Brief Description

Veterinarians are particularly at risk of contracting zoonotic infectious diseases due to their close proximity to animals, especially during times of injury or illness. Some veterinarians may be unaware of recommended personal protection measures or opt not to participate in measures that would decrease their risk of contracting a zoonotic disease (Wright et al. 2008). In 1977, a survey conducted of 1182 veterinarians showed that approximately 43% of the respondents had contracted an infectious zoonotic disease (Schnurrenberger & Martin 1977). Today, this elevated zoonotic disease risk persists; the seroprevalence of Q fever in U.S. veterinarians is 22% (Whitney, Massung, et al. 2009) and the seroprevalance of leptospirosis is 2.5% (Whitney, Ailes, et al. 2009). Within the veterinary profession, large animal practitioners might have an increased risk of occupational exposure to infectious zoonotic diseases for many reasons, including decreased biosecurity measures available in the field and the limited space available on a mobile practice for PPE.

The goals of this study are to establish veterinarians' knowledge of zoonotic infectious disease, identify veterinarians' attitudes towards zoonotic infectious disease and personal risk, and determine practices to decrease personal risk of infection. By identifying knowledge gaps in personal protective equipment (PPE) use, transmission risk factors, and disease identification/diagnosis, we aim to determine the best methods for education of veterinarians on relevant abortion-associated zoonotic infectious diseases.

The purpose of this study is to better describe veterinarians' current knowledge of zoonotic diseases that cause abortion in large animals, determine common veterinary infection control practices when working up obstetric cases, and identify common barriers to PPE use. In order to develop effective messaging strategies, a deeper understanding of the attitudes and barriers to PPE use is needed. The information collected will be used to improve and enhance zoonotic disease education and PPE guidance targeted to veterinarians. The estimated annual burden hours are 125. There is no cost to respondents other than their time.

Estimated Annualized Burden Hours
Type of respondents | Form name | Number of respondents | Number of responses per respondent | Average burden per response (in hours) | Total burden (in hours)
Veterinarian |  | 500 | 1 | 15/60 | 125
Total |  |  |  |  | 125

Jeffrey M. Zirger,
Acting Chief, Information Collection Review Office, Office of Scientific Integrity, Office of the Associate Director for Science, Office of the Director, Centers for Disease Control and Prevention.

[FR Doc. 2018-15528 Filed 7-19-18; 8:45 am]

BILLING CODE 4163-18-P